DEPARTMENT OF HEALTH AND HUMAN SERVICES

Centers for Disease Control And Prevention

[60Day-00-28]

Proposed Data Collections Submitted for Public Comment and Recommendations

In compliance with the requirement of section 3506 (c) (2) (A) of the Paperwork Reduction Act of 1995, the Centers for Disease Control and Prevention is providing opportunity for public comment on proposed data collection projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Seleda Perryman, CDC Assistant Reports Clearance Officer, 1600 Clifton Road, MS-D24, Atlanta, GA 30333. Written comments should be received within 60 days of this notice.

Proposed Project

Possible Estuary-Associated Syndrome (PEAS) Surveillance -New- National Center for Environmental Health (NCEH)—In 1997, scientists found a newly identified microorganism, the dinoflagellate Pfiesteria piscicida, in water samples taken from a bay tributary. The presence of large numbers of this organism (a bloom) was purportedly associated with observations of thousands of dead fish as well as with reports of a wide range of adverse human health effects. Reports of this purported association created excessive public concern about exposure to estuarine waters and a general distrust in seafood that prompted a flood of inquiries to public health and environmental quality agencies.

Since 1997, the Centers for Disease Control and Prevention (CDC) has been working with the States of Delaware, Florida, Maryland, North Carolina, South Carolina, and Virginia in a series of meetings, workshops, and conference calls to design, implement, evaluate, and revise surveillance activities to provide a quantitative estimate of the public health burden associated with responding to Pfiesteria-related events, including blooms, fish kills, and people with health complaints. Cooperative agreement funds were awarded to these states to develop a multi-state surveillance system to examine the effects of Pfiesteria blooms upon humans and to expand the scientific knowledge of the human health effects if Pfiesteria. Specifically, the states will quantify the burden of PEAS on their health agencies by enumerating the number of contacts involving public and professional requests for information as well as symptoms involved in self-reporting. In collaboration with the state health departments, NCEH has developed a standardized data collection instrument that the states may use to collect and store the surveillance data. NCEH has requested that the states report specific data elements back at regular intervals so that NCEH can compile the data and issue periodic aggregate reports. CDC/NCEH is requesting a 3 year clearance. There is no cost to respondents.

Type of burden | Number of respondents | Number of responses | Avg. burden/ Response (in hrs.) | Total burden (in hrs.)
Information only Calls | 800 | 1 | 5/60 | 66
Symptomatic Reports—telephone interview | 80 | 1 | 25/60 | 33
Total |  |  |  | 99

2. Microbial Contamination of Produce: A Field Study in the Lower Rio Grande Valley, Texas—New—National Center for Environmental Health (NCEH). Foodborne diseases are common; an estimated 6-33 million cases occur each year in the United States. Although most of these infections cause mild illness, severe infections and serious complications do occur. The public health challenges of foodborne diseases are changing rapidly. In recent years, new and emerging foodborne pathogens have been described and changes in food production have led to new food safety concerns. Foodborne diseases have been associated with many different foods, including recent outbreaks linked to contaminated fresh fruits (e.g., cantaloupe, strawberries) and vegetables (e.g., leaf lettuce, alfalfa sprouts).

NCEH proposes to conduct a study to determine what specific farm and produce processing practices are associated with fecal contamination of fruits and vegetables. Growing, handling and processing methods used in the produce industry may increase the risk that these foods will become contaminated with fecal matter. The study will describe the chain of farm to shipping practices for three vulnerable produce groups (leafy lettuces, leafy herbs, green onions). Critical agricultural practices where contamination with foodborne pathogens is likely will be identified by measuring the microbial quality of produce at each step during harvesting and processing (farm to shipping). Sources of fecal contamination will be determined by measuring the microbial quality of irrigation and process water, measuring fecal indicator organisms on hand rinses from farm laborers and handlers, and conducting sanitary surveys of sources of human and animal feces in and around the farms and processing areas. CDC/NCEH is requesting a 3-year clearance. There is no cost to respondents.

Respondents | Number of respondents | Responses/ respondents | Avg. burden/ respondent (in hrs.) | Total burden (in hrs.)
Farm Recruiting visit | 14 | 1 | 30/60 | 7
Packing Facility Recruiting visit | 9 | 1 | 30/60 | 4.5
Farm Manager interview (in person) | 12 | 2 | 30/60 | 12
Packing Facility Manager interview (in person) | 8 | 1 | 30/60 | 4
Hand rinse sample collection | 160 | 1 | 10/60 | 26.7
Total |  |  |  | 54.2

3. The National Health and Nutrition Examination Survey (NHANES)—(0920-0237)—Revision— The National Health and Nutrition Examination Survey (NHANES) has been conducted in several cycles since 1970 by the National Center for Health Statistics (NCHS). The current cycle of NHANES began in February 1999. The survey will now be conducted on a continuous, rather than episodic, basis. About 6,700 individuals receive a health interview in their homes annually; of these, 5,000 persons complete a physical examination. Participation in the survey is voluntary and confidential.

NHANES programs produce descriptive statistics which measure the health and nutritional status of the U.S. population. Through the use of questionnaires, physical examinations, and laboratory tests, NHANES studies the relationship between diet, nutrition and health in a representative sample of the United States civilian, noninstitutionalized population. NHANES monitors the prevalence of chronic conditions and risk factors such as coronary heart disease, arthritis, osteoporosis, pulmonary and infectious diseases, diabetes, high blood pressure, high cholesterol, obesity, smoking, drug and alcohol use, environmental exposures, and diet. NHANES data are used to establish the norms for the general population against which health care providers can compare such patient characteristics as height, weight, and nutrient levels in the blood. Data from NHANES can be compared to those from previous surveys to monitor changes in the health of the U.S. population. NHANES will also establish a national probability sample of genetic material for future genetic research for susceptibility to disease.

Users of NHANES data include Congress; the World Health Organization; Federal agencies such as NIH, EPA, and USDA; private groups such as the American Heart Association; schools of public health; private businesses; individual practitioners; and administrators. NHANES data are used to establish, monitor, and evaluate long-term national health objectives, food fortification policies, programs to limit environmental exposures, immunization guidelines and health education and disease prevention programs. There is no cost to the respondent.

Burden category | Number of respondents between 12/00-12/02 | Number of responses/ respondent | Avg. burden per response (in hours) | Total burden (hours)
1. Screening interview only | 40,000 | 1 | 10/60 | 6,680
2. Screeners and family interviews only | 2,000 | 1 | 26/60 | 868
3. Screeners, family, and SP interviews only | 3,000 | 1 | 1 6/60 | 3,303
4. Screener, household, and SP interviews and primary MEC exam only | 14,800 | 1 | 6 40/60 | 98,686
5. Screener, household, and SP interviews, primary MEC exam and full MEC replicate exam | 740 | 1 | 11 40/60 | 8,634
6. Screener, household, and SP interviews, MEC exam and dietary replicate interview only (5% + optional 15%) | 2,960 | 1 | 9 1/60 | 26,693
7. Home exam | 200 | 1 | 2 36/60 | 521
8. Telephone follow-up of elderly—option | 3,500 | 1 | 15/60 | 875
Total |  |  |  | 146,260

Dated: March 20, 2000.
Charles Gollmar,
Acting Associate Director for Policy, Planning, and Evaluation, Centers for Disease Control and Prevention (CDC).

[FR Doc. 00-7412 Filed 3-24-00; 8:45 am]

BILLING CODE 4163-18-P